DEPARTMENT OF COMMERCE

Foreign-Trade Zones Board

[Docket 28-2012]

Foreign-Trade Zone 18—San Jose, CA Application for Reorganization Under Alternative Site Framework

An application has been submitted to the Foreign-Trade Zones (FTZ) Board (the Board) by the City of San Jose, grantee of FTZ 18, requesting authority to reorganize the zone under the alternative site framework (ASF) adopted by the Board (74 FR 1170, 1/12/2009 (correction 74 FR 3987, 1/22/2009); 75 FR 71069-71070, 11/22/2010). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 4, 2012.

FTZ 18 was approved by the Board on November 27, 1974 (Board Order 103, 39 FR 42031, 12/04/1974), reorganized on October 13, 1983 (Board Order 228, 48 FR 48486, 10/19/1983, and relocated on April 3, 1985 (Board Order 293, 50 FR 15206, 04/17/1985).

The current zone project includes the following site: Site 1 (7.5 acres)—2055 South Street South, Suite A, San Jose.

The grantee's proposed service area under the ASF would be the City of San Jose, California, as described in the application. If approved, the grantee would be able to serve sites throughout the service area based on companies' needs for FTZ designation. The proposed service area is within the San Jose U.S. Customs and Border Protection port of entry.

The applicant is requesting authority to reorganize its existing zone project to include its existing site as a “magnet” site. No usage-driven sites are being requested at this time. Because the ASF only pertains to establishing or reorganizing a general-purpose zone, the application would have no impact on FTZ 18's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is June 11, 2012. Rebuttal comments in response to material submitted during the foregoing period may be submitted during the subsequent 15-day period to June 25, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: April 4, 2012.
Elizabeth Whiteman,
Acting Executive Secretary.

[FR Doc. 2012-8619 Filed 4-9-12; 8:45 am]

BILLING CODE P